DEPARTMENT OF ENERGY

Federal Energy Regulatory Commission

[Docket No. EL03-42-000]

Occidental Power Services, Inc., Complainant, v. PJM Interconnection, L.L.C., Respondent; Notice of Complaint

January 15, 2003.

Take notice that on January 14, 2003, pursuant to Sections 206 and 306 of the Federal Power Act, Occidental Power Services, Inc. (OPSI), filed a Complaint Requesting Fast Track Processing against PJM Interconnection, L.L.C. (PJM), requesting that the Commission direct PJM to enforce its Open Access Transmission Tariff by (1) billing OPSI at Locational Marginal Pricing by bus, or until bus pricing is available, nodal pricing, and (2) allowing OPSI to submit its own next day data based on OPSI's actual hourly load.

OPSI states that copies of the filing were served upon PJM, Delmarva Power & Light Company, and the Delaware Public Service Commission. OPSI is not aware of any other parties that may be expected to be affected by the complaint.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: February 3, 2003.

Magalie R. Salas,
Secretary.

[FR Doc. 03-1819 Filed 1-24-03; 8:45 am]

BILLING CODE 6717-01-P